FEDERAL COMMUNICATIONS COMMISSION

47 CFR Part 36

Federal-State Joint Board on Universal Service

AGENCY: Federal Communications Commission.

ACTION: Correcting amendment.

SUMMARY: This document contains corrections to the final regulations in the Fourteenth Report and Order, which were published in the Federal Register of Tuesday, June 5, 2001, 66 FR 30080. Specifically, this correction revises the language in section 36.605(c)(3)(ii) to make it clear.

DATES: Effective January 22, 2002.

FOR FURTHER INFORMATION CONTACT: Greg Guice, Attorney, Common Carrier Bureau, Accounting Policy Division, (202) 418-0095.

SUPPLEMENTARY INFORMATION: This is a summary of the Commission's Twenty-Third Order on Reconsideration in CC Docket No. 96-45 released on July 11, 2001. The full text of this document is available for public inspection during regular business hours in the FCC Reference Center, Room CY-A257, 445 Twelfth Street, S.W., Washington, D.C., 20554.

I. Introduction

1. In this document, the Commission makes a correction to section 36.605(c)(3)(ii) of its rules adopted in the Fourteenth Report and Order, 66 FR 30080, June 5, 2001. The correction concerns the calculation of safety net additive support in the years following qualification for such support and is necessary to make the rule consistent with the text of the underlying order. Specifically, this correction revises the language in section 36.605(c)(3)(ii) to make it clear that rural telephone companies receive the lesser of either: (1) the sum of capped support and the safety net additive support in each year or (2) uncapped support in each year when the cap is not triggered.

Need for Correction

As published, the final regulations contain errors which may prove to be misleading and need to be clarified.

List of Subjects in 47 CFR Part 36

Communications common carriers, Telephone.

Federal Communications Commission.
Magalie Roman Salas,
Secretary.

Accordingly, 47 CFR part 36 is corrected by making the following correcting amendment:

PART 36—JURISDICTIONAL SEPARATIONS

1. The authority citation for part 36 continues to read as follows:

Authority: 47 U.S.C. §§ 151-154, 201-205, 218-220, 254, 303(r), 403, 405, and 410.

2. Section 36.605(c)(3)(ii) is revised to read as follows:

§ 36.605 Calculation of safety net additive.

* * * * *

(c) * * *

(3) * * *

(ii) Continue to pay safety net additive support in any of the four succeeding years in which the total carrier loop expense adjustment is limited by the provisions of § 36.603. Safety net additive support in the succeeding four years shall be the lesser of:

(A) The sum of capped support and the safety net additive support received in the qualifying year;

or

(B) The rural telephone company's uncapped support.

* * * * *

[FR Doc. 01-31364 Filed 12-20-01; 8:45 am]

BILLING CODE 6712-01-P